DEPARTMENT OF COMMERCE

National Oceanic and Atmospheric Administration

[RTID 0648-XC148]

Threatened Species; Take of Steelhead; Take of Green Sturgeon

AGENCY: National Marine Fisheries Service (NMFS), National Oceanic and Atmospheric Administration (NOAA), U.S. Department of Commerce.

ACTION: Notice of receipt of application; to renew a scientific enhancement permit.

SUMMARY: Notice is hereby given that NMFS received an application from the U.S. Bureau of Reclamation (Reclamation) to renew their U.S. Endangered Species Act (ESA) Section 10(a)1(A) scientific enhancement permit (permit 16608-3R) for the San Joaquin River Restoration Program Steelhead Monitoring. Proposed activities within the permit application are expected to affect the threatened California Central Valley (CCV) Distinct Population Segment (DPS) of steelhead (Oncorhynchus mykiss) and the threatened Southern DPS of North American green sturgeon (Acipenser medirostris). The public is hereby notified the application for Permit 16608-3R is available for review and comment before NMFS either approves or disapproves the application.

DATES: Written comments on the permit application must be received at the appropriate email address (see ADDRESSES) on or before August 4, 2022.

ADDRESSES: Written comments on the permit application should be submitted to NMFS' Section 10(a)1(A) steelhead permit coordinator for the San Joaquin River Restoration Program, Ms. Hilary Glenn, via email (hilary.glenn@noaa.gov). The permit application is available for review online at the Authorizations and Permits for Protected Species website: https://apps.nmfs.noaa.gov/preview/preview_open_for_comment.cfm.

FOR FURTHER INFORMATION CONTACT: Ms. Hilary Glenn (email: hilary.glenn@noaa.gov; phone: 916-200-8211).

SUPPLEMENTARY INFORMATION:

Species Covered in This Notice

Threatened California Central Valley Distinct Population Segment of steelhead (Oncorhynchus mykiss); Threatened Southern Distinct Population Segment (sDPS) of North American green sturgeon (Acipenser medirostris).

Authority

Scientific research and enhancement permits are issued in accordance with Section 10(a)(1)(A) of the ESA (16 U.S.C. 1531 et. seq) and regulations governing listed fish and wildlife permits (50 CFR 222-227). NMFS issues permits based on findings that such permits (1) are applied for in good faith, (2) would not operate to the disadvantage of the listed species which are the subject of the permits, and (3) are consistent with the purposes and policies set forth in Section 2 of the ESA. Authority to take listed species is subject to conditions set forth in the permits.

This notice is provided pursuant to Section 10(c) of the ESA. NMFS will evaluate the application, associated documents, and any comment submitted to determine whether the application meets the requirements of Section 10(a) of the ESA and Federal regulations. The final permit decisions will not be made until after the end of the 30-day comment period and consideration of any comment submitted therein. NMFS will publish notice of the final action on the subject permit application in the Federal Register.

Those individuals requesting a hearing on the application listed in this notice should provide the specific reasons why a hearing on the application would be appropriate (see ADDRESSES). Such a hearing is held at the discretion of the Assistant Administrator for Fisheries, NOAA.

All statements and opinions contained in the permit action summary are those of the applicant and do not necessarily reflect the views of NMFS.

Permit Application Received

Permit 16608-3R

Reclamation applied to renew their Section 10(a)1(A) scientific enhancement permit (Previous Federal Permit/Authorization: 16608-2R) involving continued implementation of the San Joaquin River Restoration Program (SJRRP) Steelhead Monitoring Plan (SMP) in the San Joaquin River Restoration Area. The Restoration Area is 153 miles long (246.23 km), from Friant Dam downstream to the San Joaquin River's confluence with the Merced River. This stretch of river crosses the California counties of Fresno, Madera and Merced. The primary objectives of this effort involve: (1) monitor for adult CCV steelhead in the wetted sections of the San Joaquin River downstream of Mendota Dam (or lower, depending on passage conditions) to the Merced River confluence, (2) relocate CCV steelhead to more suitable habitat downstream of the Merced River confluence, (3) determining the distribution, abundance, size, and age structures of both CCV steelhead and sDPS green sturgeon, and (4) documenting changes in CCV steelhead abundance and distribution in response to fluctuating water conditions. Proposed monitoring activities include: capture (raft-mounted electrofisher), fyke nets with wing walls and fish traps, steelhead-specific trammel nets, hand seins, handling (conducting length measurements, gender identification, tissue and scale collection, assessment of condition, checking for the presence of tags), and Passive Integrated Transponder (PIT) tagging of fish inclusive of steelhead and green sturgeon. Captured CCV steelhead will be transported by tanker truck and released in the San Joaquin River downstream of the Merced River confluence. Recaptured CCV steelhead will be identified by the presence of a PIT tag.

Field activities for the proposed monitoring effort will occur December 1 through April 30 over the next 5 years (start: 12/01/2022 End: 12/31/2027). The take Reclamation is requesting for this 5-year effort is as follows by each take-action category: (1) non-lethal (seven adults) and lethal (two adults) effects due to collecting, sampling, and transport of live threatened CCV steelhead (natural origin) and non-lethal (seven adults) and lethal (two adults) effects to threatened CCV steelhead of hatchery origin, (2) non-lethal (six adults) and no lethal effects due to capture, handling, and release of live threatened green sturgeon, and (3) non-lethal effects to threatened CCV steelhead of natural origin (ten adults) and threatened CCV steelhead of hatchery origin (ten adults), and threatened sDPS green sturgeon (three adults) due to observations and harassment at weirs, fish ladders, and dams where no trapping occurs. The potential unintentional lethal take resulting from the proposed scientific enhancement activities is up to four adult CCV steelhead (two natural origin; two hatchery origin). Overall, no intentional lethal take of CCV steelhead is proposed or expected as a result of these scientific enhancement activities.

This proposed scientific enhancement effort is expected to provide valuable information on sDPS green sturgeon and the most southern extent of CCV steelhead to the California Department of Fish and Wildlife's comprehensive monitoring plan for steelhead in the Central Valley. The proposed monitoring by Reclamation is consistent with recommendations and objectives outlined in NMFS' Recovery Plan for CCV steelhead. See the application for Permit 16608-3R for greater details on the scientific enhancement proposal and related methodology.

Dated: June 28, 2022.
Angela Somma,
Chief, Endangered Species Division, Office of Protected Resources, National Marine Fisheries Service.

[FR Doc. 2022-14204 Filed 7-1-22; 8:45 am]

BILLING CODE 3510-22-P